DEPARTMENT OF TRANSPORTATION

Federal Aviation Administration

Public Notice for Waiver of Aeronautical Land-Use Assurance, Jackson County—Reynolds Field, Jackson, MI

AGENCY: Federal Aviation Administration, DOT.

ACTION: Notice of intent of waiver with respect to land.

SUMMARY: The Federal Aviation Administration (FAA) is considering a proposal to change a portion of the airport from aeronautical use to non-aeronautical use and to authorize the sale or lease of the airport property. The proposal consists of two (2) parcels of land totaling approximately 68 acres. Current use and present condition is vacant grassland with intermittent wetland areas. The land is currently zoned residential. Parcel 15A was acquired under FAA Project No. 8-26-0051-02. Parcel 62 was not acquired with federal funds. There are no impacts to the airport by allowing the airport to dispose of the property. The airport desires to enter into a long-term lease to provide a long-term revenue source, or to sell the property. Approval does not constitute a commitment by the FAA to financially assist in the disposal of the subject airport property nor a determination of eligibility for grant-in-aid funding from the FAA. The disposition of proceeds from the disposal or lease of the airport property will be in accordance FAA's Policy and Procedures Concerning the Use of Airport Revenue, published in the Federal Register on February 16, 1999.

In accordance with section 47107(h) of title 49, United State Code, this notice is required to be published in the Federal Register 30 days before modifying the land-use assurance that requires the property to be used for an aeronautical purpose.

This amends the Federal Register Notice published on September 1, 2005 to allow the County of Jackson, Michigan, the option to sell or lease the property requested to be released.

DATES: Comments must be received on or before January 30, 2006.

FOR FURTHER INFORMATION CONTACT: Mr. Lawrence C. King, Project Manager, Federal Aviation Administration, Great Lakes Region, Detroit Airports District Office, DET ADO 607, 11677 South Wayne Road, Romulus, Michigan 48174. Telephone Number (734) 229-2933/Fax Number (734) 229-2950. Documents reflecting this FAA action may be reviewed at this same location or at Janckson County-Reynolds Field, Jackson, Michigan.

SUPPLEMENTARY INFORMATION: Following is a legal description of the property located in Jackson, Jackson County, Michigan, and described as follows:

Parcel 15A—37.444 Acres.

Part of the Southwest ¼ of the Northwest ¼ of Section 28, Town 2 South, Range 1 West, Blackman Township, Jackson County, Michigan being described as: Commencing at the West ¼ post of said Section 28; thence North 00° 11′29″ East, along the West line of said Section 28, a distance of 54.81 feet to the North right-of-way line of I-94 and being the Point of Beginning of this description; thence continuing North 00° 11′29″ East, along said West section line, a distance of 1271.67 feet to the Northwest corner of the Southwest ¼ of the Northwest ¼ of said Section 28; then North 89° 44′57″ East, along the North line of said Southwest ¼ of the Northwest ¼, a distance of 1325.56 feet to the Northeast corner of said Southwest ¼ of the Northwest ¼; then South 00° 02′47″ West, along the East line of said Southwest ¼ of the Northwest ¼, a distance of 1132.89 feet to the North right-of-way line of I-94; thence 1273.58 feet, along a curve to the right on said North right-of-way line, with a radius of 5579.65 feet, a central angle of 13° 07′01″, and a chord of South 83° 29′06″ West 1274.58 feet to a point of tangency; thence North 89° 57′24″ West, along said Norht right-of-way line, a distance of 62.53 feet to the Point of Beginning.

Subject to a road right-of-way over the West 33.00 feet as used and occupied by Doney Road.

Subject to an easement for the Hurd-Marvin Drain.

Subject to an easement for Consumers Power as recorded in Liber 804, Page 275, Jackson County Records.

Subject to an easement for storm drainage over the East 10.00 feet of the Southwest ¼ of the Northwest ¼ of Section 28 lying North of the Hurd-Marvin Drain as recorded in Liber 720, Page 236, Jackson County Records.

Parcel 62—30.453 Acres.

Part of the Southeast ¼ of the Northwest ¼ and part of the Southwest ¼ of the Northeast ¼ of Section 28, Town 2 South, Range 1 West, Blackman Township, Jackson County, Michigan being described as: Commencing at the West ¼ post of said Section 28; thence North 00°11′29″ East, along the West line of said Section 28, a distance of 1326.48 feet to the Northwest corner of the Southwest ¼ of the Northwest ¼ of said Section 28; thence North 89°44′57″ East, along the North line of said Southwest ¼ of the Northwest ¼, a distance of 1325.56 feet to the Northeast corner of said Southwest ¼ of the Northwest ¼ and being the Point of Beginning of this description; thence continuing North 89°44′57″ East, along the North line of the Southeast ¼ of the Northwest ¼, a distance of 1325.56 feet to the North-South ¼ line of said Section 28; thence North 89°40′07″ East, along the North line of the Southwest ¼ of the Northeast ¼ of said Section 28, a distance of 123.00 feet; thence South 00°05′53″ East, parallel with and 123.00 feet East of said North-South ¼ line, a distance of 663.98 feet to the North right-of-way line of I-94; thence the following three courses along said I-94 right-of-way,

(1) South 67°22′11″ West a distance of 193.46 feet;

(2) South 71°22′56″ West a distance of 794.42 feet to a point of curvature;

(3) 539.91 feet, along a curve to the right with a radius of 5579.65 feet, a central angle of 05°32′39″, and a chord of South 74°09′16″ West 539.70 feet to the West line of said Southeast ¼ of the Northwest ¼; thence North 00°02′47″ East, along said West line of the Southeast ¼ of the Northwest ¼, a distance of 1132.89 feet to the Point of Beginning.

Subject to an easement for the Hurd-Marvin Drain.

Subject to an easement for storm drainage over part of the West 20.00 feet of the North 20.00 feet of the Southeast ¼ of the Northwest ¼ of Section 28 as recorded in Liber 721, Page 836, Jackson County Records.

Subject to easements for sanitary sewer over part of the Southeast ¼ of the Northwest ¼ of Section 28 as recorded in Liber 872, Page 320, and Liber 868, Page 307, Jackson County Records.

Issued in Romulus, Michigan on December 21, 2005.
Irene R. Porter,
Manager, Detroit Airports District Office FAA, Great Lakes Region.

[FR Doc. 05-24667 Filed 12-29-05; 8:45 am]

BILLING CODE 4910-13-M